DEPARTMENT OF COMMERCE

National Oceanic and Atmospheric Administration

[RTID 0648-XC047]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold online and in-person public meetings.

DATES: The Pacific Council and its advisory entities will meet June 8-14, 2022 in a hybrid format with most meetings held in-person. The Pacific Council and groundfish Advisory Body meetings will be held in a hybrid of remote and in-person participation. The Scientific and Statistical Committee will meet by webinar only. The Pacific Council meeting will begin on Thursday, June 9, 2022, at 8 a.m. Pacific Daylight Time (PDT), reconvening at 8 a.m. on Friday, June 10 through Tuesday, June 14, 2022. All meetings are open to the public, except for a Closed Session held from 8 a.m. to 9 a.m., Thursday, June 9, to address national security matters, international negotiations, litigation, or personnel matters including appointments to advisory bodies. The Pacific Council will meet as late as necessary each day to complete its scheduled business.

ADDRESSES: Meetings of the Pacific Council and its groundfish advisory entities will be held at the Hilton Vancouver Hotel, 301 West Sixth Street, Vancouver, WA 98660; telephone: (360) 993-4500. Meetings will be held in in-person, online, and hybrid formats. Specific meeting information, including directions on joining meetings, connecting to the live stream broadcast, and system requirements will be provided in the meeting materials on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The June 2022 meeting of the Pacific Council will be streamed live on the internet. The broadcasts begin initially at 9 a.m. PDT Thursday, June 9, 2022, and through Tuesday, June 14, 2022. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.4, Proposed Council Meeting Agenda, and will be in the advance June 2022 briefing materials and posted on the Pacific Council website at www.pcouncil.org no later than Friday, May 20, 2022.

A. Call to Order

1. Opening Remarks

2. Roll Call

3. Executive Director's Report

4. Approve Agenda

B. Open Comment Period

1. Comments on Non-Agenda Items

C. Administrative Matters

1. Council Coordination Committee Meeting Report

2. Financial Disclosure and Recusal Policy

3. Marine Planning

4. Fiscal Matters

5. Legislative Matters

6. Approval of Council Meeting Records

7. Membership Appointments and Council Operating Procedures

8. Future Council Meeting Agenda and Workload Planning

D. Coastal Pelagic Species Management

1. Central Subpopulation of Northern Anchovy Assessment and Harvest Specifications

2. Stock Assessment Terms of Reference

3. Essential Fish Habitat Review—Phase 2 Action Plan

E. Habitat Issues

1. Current Habitat Issues

F. Groundfish Management

1. National Marine Fisheries Service Report

2. Limited Entry Fixed Gear Catch Share Program Review

3. Stock Assessment Plan and Terms of Reference—Final Action

4. Stock Definitions—Scoping

5. Sablefish Gear Switching

6. Exempted Fishing Permits, Harvest Specifications, and Management Measures for 2023-24 Fisheries—Final Action

7. Inseason Adjustments—Final Action

G. Highly Migratory Species Management

1. National Marine Fisheries Service Report

2. International Management Activities

3. Exempted Fishing Permits

4. Drift Gillnet Fishery Hard Caps

Advisory Body Agendas

Advisory body agendas will include discussions of relevant issues that are on the Pacific Council agenda for this meeting and may also include issues that may be relevant to future Council meetings. Proposed advisory body agendas for this meeting will be available on the Pacific Council website, www.pcouncil.org, no later than Friday, May 20, 2022.

Schedule of Ancillary Meetings

Day 1—Wednesday, June 8, 2022

Coastal Pelagic Species Advisory Subpanel 8 a.m.

Coastal Pelagic Species Management Team 8 a.m.

Groundfish Advisory Subpanel 8 a.m.

Groundfish Management Team 8 a.m.

Habitat Committee 8 a.m.

Scientific and Statistical Committee 8 a.m.

Legislative Committee 10 a.m.

Budget Committee 1 p.m.

Enforcement Consultants 2 p.m.

Day 2—Thursday, June 9, 2022

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Habitat Committee 8 a.m.

Highly Migratory Species Management Team 8 a.m.

Scientific and Statistical Committee 8 a.m.

Enforcement Consultants As Necessary

Day 3—Friday, June 10, 2022

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants As Necessary

Day 4—Saturday, June 11, 2022

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants As Necessary

Day 5—Sunday, June 12, 2022

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants As Necessary

Day 6—Monday, June 13, 2022

California State Delegation 7 a.m.

Oregon State Delegation 7 a.m.

Washington State Delegation 7 a.m.

Groundfish Advisory Subpanel 8 a.m.

Groundfish Management Team 8 a.m.

Enforcement Consultants As Necessary

Day 7—Tuesday, June 14, 2022

California State Delegation 7 a.m.

Oregon State Delegation 7 a.m.

Washington State Delegation 7 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: May 17, 2022.
Tracey L. Thompson,
Acting Deputy Director, Office of Sustainable Fisheries, National Marine Fisheries Service.

[FR Doc. 2022-10890 Filed 5-19-22; 8:45 am]

BILLING CODE 3510-22-P